DEPARTMENT OF TRANSPORTATION

Federal Highway Administration

[Docket No. FHWA-2000-8136]

Agency Information Collection Activities; Request for Comments; Clearance of a New Information Collection; Heavy Vehicle Travel Information System

AGENCY: Federal Highway Administration (FHWA), DOT.

ACTION: Notice and request for comments.

SUMMARY: The FHWA invites public comments about our intention to request the Office of Management and Budget's (OMB) approval for a new information collection. The collection involves information on truck travel miles to be included in the Heavy Vehicle Travel Information System (HVTIS). We are required to publish this notice in the Federal Register by the Paperwork Reduction Act of 1995.

DATES: Please submit comments by December 29, 2000.

ADDRESSES: You may mail or hand deliver comments to the U.S. Department of Transportation, Dockets Management Facility, Room PL-401, 400 Seventh Street, SW., Washington, DC 20590; telefax comments to 202/493-2251; or submit electronically at http://dmses.dot.gov/submit. All comments should include the docket number in this notice's heading. All comments may be examined and copied at the above address from 9 a.m. to 5 p.m., e.t., Monday through Friday, except Federal holidays. If you desire a receipt you must include a self-addressed stamped envelope or postcard or, if you submit your comments electronically, you may print the acknowledgment page.

FOR FURTHER INFORMATION CONTACT: Mr. Ed Kashuba, 202-366-0160, Office of Highway Policy Information, Policy Service Business Unit, Federal Highway Administration, Department of Transportation, 400 7th Street, SW., Washington, DC 20590-0001. Office hours are from 6:45 a.m. to 4:15 p.m., Monday through Friday, except Federal holidays.

SUPPLEMENTARY INFORMATION: Title: Heavy Vehicle Travel Information System (HVTIS).

Background: Title 49, United States Code, Section 301, authorizes the DOT to collect statistical information relevant to domestic transportation. Title 23, United States Code, Section 307, authorizes the DOT to engage in studies to collect data for planning future highway programs. The FHWA is developing the HVTIS to house data that would be used to analyze the amount and nature of truck travel at the national and regional levels. The information would be used by the FHWA and other DOT administrations to evaluate changes in truck travel in order to assess impacts on highway safety; the role of travel in economic productivity; impacts of changes in truck travel on infrastructure condition; and maintaining our mobility while protecting the human and natural environment. The increasing dependence on truck transport requires that data be available to better assess its overall contribution to the Nation's well-being. In conducting the data collection, the FHWA will be requesting that State Departments of Transportation provide periodic reporting of vehicle classification and weight data which they collect as part of their existing traffic data collection programs. The majority of States collect this vehicle weight data periodically throughout the year using weigh-in-motion devices and also collect vehicle classification data continuously. The data will allow transportation professionals at the Federal, state and metropolitan levels to make informed decisions about policies and plans.

Respondents: 51 State Transportation Departments, including the District of Columbia.

Frequency: It is proposed that continuous vehicle classification data be reported on a monthly basis to assure timely information that can be compared to monthly reports of economic activity. Based on data collection practices in common use by the State Transportation Departments, it is proposed that data collected using weigh-in-motion devices be submitted to FHWA annually.

Estimated Average Burden per Response: The average State Transportation Department operates 40 continuous vehicle classification installations as well as 10 weigh-in-motion sites. It is estimated that the additional processing necessary to make 48 hours of weigh-in-motion data available to FHWA would be 6 minutes per site per year and that processing one month of vehicle classification data would take 5 minutes per site per month.

Estimated Total Annual Burden Hours: 41 per State; 2,091 total.

Public Comments Invited: You are asked to comment on any aspect of this information collection, including: (1) Whether the proposed collection is necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of this information collection.

Electronic Access: Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http://www.access.gpo.gov/nara.

Authority: The Paperwork Reduction Act of 1995; 44 U.S.C. Chapter 35, as amended; and 49 CFR 1.48.

Issued on: October 24, 2000.
James R. Kabel,
Chief, Management Programs and Analysis Division.

[FR Doc. 00-27725 Filed 10-27-00; 8:45 am]

BILLING CODE 4910-22-P